FEDERAL COMMUNICATIONS COMMISSION

Notice of Public Information Collection(s) Being Submitted for Review to the Office of Management and Budget

February 26, 2008.

SUMMARY: The Federal Communications Commission, as part of its continuing effort to reduce paperwork burden invites the general public and other Federal agencies to take this opportunity to comment on the following information collection(s), as required by the Paperwork Reduction Act (PRA) of 1995, 44 U.S.C. sections 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information will have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before April 7, 2008. If you anticipate that you will be submitting PRA comments, but find it difficult to do so within the period of time allowed by this notice, you should advise the FCC contact listed below as soon as possible.

ADDRESSES: Submit your PRA comments to Nicholas A. Fraser, Office of Management and Budget, (202) 395-5887, or via fax at 202-395-5167 or via internet at Nicholas_A._Fraser@omb.eop.gov and to Judith-B. Herman@fcc.gov, Federal Communications Commission, or an e-mail to PRA@fcc.gov. To view a copy of this information collection request (ICR) submitted to OMB: (1) Go to the web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information, contact Judith B. Herman at 202-418-0214 or via the Internet at Judith-B.Herman@fcc.gov.

SUPPLEMENTARY INFORMATION: OMB Control Number: 3060-0508.

Title: (Note: Title change). Sections 1.923, 1.924, and 1.925 and Part 22 Rules—Reporting and Recordkeeping Requirements.

Form No.: N/A.

Type of Review: Extension of a currently approved collection.

Respondents: Individuals or households; and business or other for-profit.

Number of Respondents: 44,127 respondents; 44,127 responses.

Estimated Time Per Response: .084—40 hours.

Frequency of Response: On occasion, quarterly, and semi-annual reporting requirements and recordkeeping requirement.

Obligation to Respond: Required to obtain or retain benefits. Statutory authority for this information collection is contained in 47 U.S.C. Sections 151(i), 154(j), 303, 309 and 310 of the Communications Act of 1934, as amended.

Total Annual Burden: 62,835 hours.

Total Annual Cost: $6,643,050.

Privacy Act Impact Assessment: Yes.

Nature and Extent of Confidentiality: There is no need for confidentiality with respect to all Amateur Radio Service filers in this information collection (IC). Pursuant to Section 208(b) of the E-Government Act of 2002, 44 U.S.C. 2501, in conformance with the Privacy Act of 1974, 5 U.S.C. 552(a)(e)(3), the Wireless Telecommunications Bureau (WTB) instructs licensees to use the FCC's Universal Licensing System (ULS), Antenna Structure Registration (ASR), Commission Registration Systems (CORES), and related systems and subsystems to submit information. CORES is used to receive an FCC Registration Number (FRN) and password, after which one must register all current call signs and ASR numbers associated with an FRN within the Commission's system of records (ULS database). Although ULS stores all information pertaining to the individual license via the FRN, confidential information is accessible only by persons or entities that hold the password for each account, and the Bureau's Licensing Division staff. Upon the request of an FRN, the individual licensee is consenting to make publicly available, via the ULS database, all information that is not confidential in nature.

Needs and Uses: The Commission will submit this information collection (IC) to the OMB as an extension (no change in the reporting and/or third party disclosure requirements) during this comment period to obtain the full three-year clearance from them. There has been a change in the annual cost because the OMB did not record this cost in their inventory back in 2004 when this IC was last submitted for approval. Therefore, we are adjusting the cost from zero (0) to $6,643,050.

The information collected pursuant to the rules in Part 22 of the Commission's rules is primarily used by Commission staff to determine, on a case-by-case basis whether or not to grant licenses authorizing construction and operation of wireless telecommunications facilities to telecommunications common carriers, who supply this information when applying for such licenses. Additionally, the information is sometimes used by Commission staff to develop statistics about the demand for various wireless telecommunications licenses and about the performance of the licensing process itself, and on occasion for rule enforcement purposes. Because all application information is routinely and normally made public, interested persons, particularly licensees and their representatives, often review this information as it becomes available in order to determine whether they believe that the wireless telecommunications facilities proposed by applicants would affect any existing or planned wireless telecommunications facilities in which they have an interest. If any adverse effect is anticipated, such parties often use the information to help them prepare pleadings opposing a Commission grant of particular application(s).

Federal Communications Commission.
Marlene H. Dortch,
Secretary.

[FR Doc. E8-4131 Filed 3-5-08; 8:45 am]

BILLING CODE 6712-01-P